FARM CREDIT SYSTEM INSURANCE CORPORATION

Regular Meeting; Farm Credit System Insurance Corporation Board

AGENCY: Farm Credit System Insurance Corporation.

ACTION: Notice, regular meeting.

SUMMARY: Notice of the forthcoming regular meeting of the Board of the Farm Credit System Insurance Corporation (FCSIC), is hereby given in accordance with the provisions of Article VI of the Bylaws of the FCSIC.

Date and Time: This regular meeting of the Board will be held on December 8, 2021, at 10:00 a.m. EST, until such time as the Board may conclude its business.

Status: Parts of this meeting will be open to the public and parts will be closed.

Place: Because of the COVID-19 pandemic, we will conduct the meeting virtually. If you would like to observe the open portion of the virtual meeting, at least 24 hours before the meeting, go to FCSIC.gov, select “News & Events,” then “Board Meetings.” There you will find a description of the meeting and “Instructions for board meeting visitors.”

Contact Person for More Information: If you need further information, or if you need assistance for accessibility reasons, or if you have any questions, contact Ashley Waldron, Secretary to the FCSIC Board, at (703) 883-4009. TTY is (703) 883-4056.

Matters to be Considered: The matters to be considered are as follows:

Open Session

1. Approval of September 14, 2021 Minutes

2. FCSIC Financial Reports

3. Report on Insured Obligations

4. Report on Annual Performance Plan

Closed Session

5. Report on Insurance Risk

Closed Session—Audit Committee

6. Federal Managers Financial Integrity Act Review

7. Audit Plan for the Year Ended December 31, 2021

8. Executive Session of the Audit Committee with Auditor

Dated: December 1, 2021.
Ashley Waldron,
Secretary, Farm Credit System Insurance Corporation Board.

[FR Doc. 2021-26387 Filed 12-3-21; 8:45 am]

BILLING CODE 6705-01-P